Title 3—

The President

Proclamation 8957 of April 12, 2013

Pan American Day and Pan American Week, 2013

By the President of the United States of America

A Proclamation

One hundred and twenty-three years ago, countries across the Western Hemisphere came together to found the International Union of American Republics—a forerunner to the Organization of American States and a foundation for progress throughout the region. In the decades since, nations in the Americas have forged lasting partnerships in trade, security, and democracy that reflect our shared commitment to peace and prosperity. As we celebrate those ties this week, we recognize the Pan American community's accomplishments and recommit to advancing common goals.

Delivering prosperity for all our people takes strong, broad-based economic growth. That is why my Administration has worked tirelessly to boost trade with our partners abroad and open new markets for American products. We have worked together to increase lending through the Inter-American Development Bank, promote microfinance, reform tax systems, eliminate barriers to investment, and forge clean energy and climate partnerships. In the United States, we have secured trade agreements with Colombia and Panama. Alongside partners like Canada, Mexico, Chile, and Peru, we are making progress toward a Trans-Pacific Partnership. And inter-American trade is continuing to expand dramatically, supporting millions of jobs here in the United States and still more abroad.

These initiatives are strengthening economies across the Americas. And just as the benefits of trade and development should be shared between nations, we also know they should be shared within nations. That takes the assurance of security and transparency, education and equality, human rights and the rule of law. As countries throughout the hemisphere build up those fundamental protections and opportunities for their citizens, the United States will work alongside them. It is a commitment we make not only because it is the right thing to do—we make it knowing that our futures depend on what we can do together as partners in progress.

On Pan American Day and during Pan American Week, we renew the bonds of friendship that unite us across cultures and continents. Let us mark this week by reinvesting in the prosperity and dignity of our peoples, confident that the Americas' best days are still ahead.

NOW, THEREFORE, I, BARACK OBAMA, President of the United States of America, by virtue of the authority vested in me by the Constitution and the laws of the United States, do hereby proclaim April 14, 2013, as Pan American Day and April 14 through April 20, 2013, as Pan American Week. I urge the Governors of the 50 States, the Governor of the Commonwealth of Puerto Rico, and the officials of the other areas under the flag of the United States of America to honor these observances with appropriate ceremonies and activities.

IN WITNESS WHEREOF, I have hereunto set my hand this twelfth day of April, in the year of our Lord two thousand thirteen, and of the Independence of the United States of America the two hundred and thirty-seventh.

[FR Doc. 2013-09194

Filed 4-16-13; 11:15 am]

Billing code 3295-F3